DEPARTMENT OF AGRICULTURE

National Agricultural Statistics Service

Notice of the Advisory Committee on Agriculture Statistics Hog Subcommittee Meeting

AGENCY: National Agricultural Statistics Service, USDA.

ACTION: Notice of meeting.

SUMMARY: In accordance with the Federal Advisory Committee Act, 5 U.S.C. App. 2, the National Agricultural Statistics Service (NASS) announces a meeting of the Advisory Committee on Agriculture Statistics Hog Subcommittee.

DATES: The subcommittee meeting will take place on February 25, 2003, from 2 p.m. to 5 p.m.

ADDRESSES: The meeting will take place at The Brown—A Camberley Hotel, 335 Broadway, Louisville, Kentucky. The public may file written comments before or within a reasonable time after the meeting to: Carol House, Executive Director, Advisory Committee on Agriculture Statistics, U.S. Department of Agriculture, National Agricultural Statistics Service, 1400 Independence Ave., SW., South Building, Room 4117, Washington, DC 20250-2000.

FOR FURTHER INFORMATION CONTACT: Carol House, Telephone: 202-720-4333, Fax: 202-720-9013, or e-mail: chouse@nass.usda.gov.

SUPPLEMENTARY INFORMATION: The Advisory Committee on Agriculture Statistics Hog Subcommittee consists of 3 members from the Advisory Committee on Agriculture Statistics and 8 members from hog industry. During this meeting, the Subcommittee will discuss the hog estimation program.

This Subcommittee meeting will be open to the public. There will be an opportunity for public questions and comments during the meeting at 3 p.m. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated February 10, 2003, at Washington, DC.
R. Ronald Bosecker,
Administrator, National Agricultural Statistics Service.

[FR Doc. 03-4031 Filed 2-19-03; 8:45 am]

BILLING CODE 3410-20-P